Proclamation 9009 of August 30, 2013

National Preparedness Month, 2013

By the President of the United States of America

A Proclamation

Time and again, America faces crises that test our readiness and challenge our resolve—from natural disasters like hurricanes, tornadoes, and floods to shootings, cyber incidents, and even acts of terrorism. While my Administration is working tirelessly to avert national tragedies, it is every American's responsibility to be prepared. By planning for emergencies, individuals can protect themselves and their families while also contributing to their communities' resilience. During National Preparedness Month, we refocus our efforts on readying ourselves, our families, our neighborhoods, and our Nation for any crisis we may face.

My Administration is committed to preparing our country for the full range of threats. In the face of an emergency, we will continue to cut through red tape and bolster coordination. At my direction, the Federal Emergency Management Agency will launch a comprehensive campaign to build and sustain national preparedness with private sector, non-profit, and community leaders and all levels of government. The campaign will be based on science, research and development, public outreach, and broad participation. It will aim to inspire Americans of all ages to increase their preparedness by moving from awareness to action.

Over this past year, ordinary Americans have stepped up in moments of trial and tragedy to perform real acts of heroism. Despite the brave actions of first responders across America, neighbors and friends are often the first on the scene after an emergency, and circumstances can call anyone to become a hero. This year's National Preparedness Month theme, “You Can Be the Hero,” asks all Americans to ready themselves to assist in case of emergency. Anyone can improve their preparedness by making or reviewing emergency plans with their family and by building a disaster kit with food, water, and essential supplies. Visit www.Ready.gov or www.Listo.gov to see which types of disasters are most likely for your area and learn more about what you can do to prepare.

This month, as we reflect on challenges to our communities, regions, and our Nation, we continue to lend our support to recovery efforts, and we honor our first responders by doing our part to build a more resilient America.

NOW, THEREFORE, I, BARACK OBAMA, President of the United States of America, by virtue of the authority vested in me by the Constitution and the laws of the United States, do hereby proclaim September 2013 as National Preparedness Month. I encourage all Americans to recognize the importance of preparedness and work together to enhance our national security, resilience, and readiness.

IN WITNESS WHEREOF, I have hereunto set my hand this thirtieth day of August, in the year of our Lord two thousand thirteen, and of the Independence of the United States of America the two hundred and thirty-eighth.

[FR Doc. 2013-21822

Filed 9-5-13; 8:45 am]

Billing code 3295-F3